FEDERAL COMMUNICATIONS COMMISSION

47 CFR Part 73

[DA 06-1049; MB Docket No. 05-104; RM-10837, RM-10838]

Radio Broadcasting Services; Black Rock, Cave City and Cherokee Village, AR and Thayer, MO

AGENCY: Federal Communications Commission.

ACTION: Final rule.

SUMMARY: This document substitutes Channel 252C2 for Channel 252C3 at Cherokee Village, Arkansas, reallots Channel 252C2 to Black Rock, Arkansas, and modifies the Station KFCM license to specify operation on Channel 252C2 at Cherokee Village. To replace the loss of the sole local service at Cherokee Village, this document also reallots Channel 222C2 from Thayer, Missouri, and modifies the Station KSAR license to specify Cherokee Village as the community of license. This document also reclassifies the Channel 253C allotment at Little Rock, Arkansas, to Channel 253C0, and modifies the Station KURB license at Little Rock, Arkansas, to specify operation on Channel 253C0. The reference coordinates for the Channel 252C2 allotment at Black Rock, Arkansas, are 36-05-25 and 91-08-55. The reference coordinates for the Channel 222C2 allotment at Cherokee Village, Arkansas, are 36-21-58 and 91-28-35. The reference coordinates for the Channel 253C0 allotment at Little rock, Arkansas, are 34-47-56 and 92-29-44. With this action, the proceeding is terminated.

DATES: Effective July 3, 2006.

FOR FURTHER INFORMATION CONTACT: Robert Hayne, Media Bureau, (202) 418-2177.

SUPPLEMENTARY INFORMATION: This is a synopsis of the Report and Order in MB Docket No. 05-104, adopted May 17, 2006, and released May 19, 2006. The full text of this decision is available for inspection and copying during normal business hours in the FCC Reference Information Center at Portals II, CY-A257, 445 12th Street, SW., Washington, DC. The complete text of this decision may also be purchased from the Commission's copy contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio Broadcasting.

For the reasons discussed in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments, under Arkansas, is amended by removing Channel 252A and adding Channel 222C2 at Cherokee Village.

3. Section 73.202(b), the Table of FM Allotments, under Missouri, is amended by removing Thayer, Channel 222C2.

4. Section 73.202(b), the Table of FM Allotments under Arkansas, is amended by adding Black Rock, Channel 252C2.

Federal Communications Commission.
John A. Karousos,
Assistant Chief, Audio Division, Media Bureau.

[FR Doc. E6-8863 Filed 6-6-06; 8:45 am]

BILLING CODE 6712-01-P